INTERNATIONAL TRADE COMMISSION

[Investigation No. 337-TA-784]

Certain Light-Emitting Diodes and Products Containing the Same; Commission Determination To Grant the Joint Motion To Terminate the Investigation on the Basis of Settlement; Termination of Investigation

AGENCY: U.S. International Trade Commission.

ACTION: Notice.

SUMMARY: Notice is hereby given that the U.S. International Trade Commission has determined to grant the joint motion to terminate the above-referenced investigation based upon settlement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930 as amended, 19 U.S.C. 1337, on July 11, 2011, based on two complaints filed by OSRAM GmbH of Munich, Germany (“OSRAM”), alleging, inter alia, a violation of section 337 in the importation, sale for importation, and sale within the United States after importation of certain light-emitting diodes and products containing same by reason of infringement of certain claims of U.S. Patent Nos. 6,849,881 (“the `881 patent”); 6,975,011 (“the `011 patent”); 7,106,090 (“the `090 patent”); 7,151,283 (“the `283 patent”); and 7,271,425 (“the `425 patent”). 76 FR 40746 (Jul. 11, 2011). Subsequently, the `881, the `090, and the `011, as well as certain claims of the `283 and `425 patents, were terminated from the investigation. The respondents are LG Electronics and LG Innotek Co., Ltd., both of Seoul, Republic of Korea; LG Electronics U.S.A., Inc. of Englewood Cliffs, New Jersey; and LG Innotek U.S.A., Inc. of San Diego, California (collectively, “LG”). Id. The Office of Unfair Import Investigations was not named as a party to the investigation.

The evidentiary hearing in this investigation was held from April 26 through May 2, 2012. On July 9, 2012, the ALJ issued the final initial determination (“ID”) finding a violation of section 337. The ALJ issued his recommended determination on remedy and bonding on July 23, 2012. Respondent LG filed a timely petition for review of various portions of the final ID, and complainant OSRAM filed a timely response to the petition.

On November 4, 2012, both parties to the investigation filed a “Joint Motion To Terminate the Investigation and Extend the Target Date, If Necessary.” On November 7, 2012, the Commission extended the target date in this investigation by two months, to January 9, 2013.

Having examined the joint motion, the settlement agreement, and the record of this investigation, the Commission has determined to grant the joint motion to terminate the investigation. The Commission finds, pursuant to Commission rule 210.50(b)(2), that this termination will not prejudice the public interest.

The authority for the Commission's determination is contained in section 337 of the Tariff Act of 1930, as amended, 19 U.S.C. 1337, and in section 210.42 of the Commission's Rules of Practice and Procedure, 19 CFR 210.42.

By order of the Commission.
Issued: December 14, 2012.
Lisa R. Barton,
Acting Secretary to the Commission.

[FR Doc. 2012-30629 Filed 12-19-12; 8:45 am]

BILLING CODE 7020-02-P